DEPARTMENT OF HEALTH AND HUMAN SERVICES

Centers for Disease Control and Prevention

Request for Nominations of Candidates To Serve on the CDC/HRSA Advisory Committee on HIV, Viral Hepatitis and STD Prevention and Treatment, Centers for Disease Control and Prevention, Health Resources and Services Administration

The Centers for Disease Control and Prevention (CDC) is soliciting nominations for possible membership on the CDC/HRSA Advisory Committee on HIV, Viral Hepatitis and STD Prevention and Treatment (CHACHSPT).

The CHACHSPT provides advice to the Secretary, HHS; the Director, CDC; and the Administrator, Health Resources and Services Administration (HRSA), on objectives, strategies, policies, and priorities for HIV, Viral Hepatitis, and STD prevention and treatment efforts including surveillance of HIV infection, AIDS, Viral Hepatitis, other STDs, and related behaviors; epidemiologic, behavioral, health services, and laboratory research on HIV/AIDS, Viral Hepatitis, and other STDs; identification of policy issues related to HIV/Viral Hepatitis/STD professional education, patient healthcare delivery, and prevention services; agency policies about prevention of HIV/AIDS, Viral Hepatitis and other STDs, treatment, healthcare delivery, and research and training; strategic issues influencing the ability of CDC and HRSA to fulfill their missions of providing prevention and treatment services; programmatic efforts to prevent and treat HIV, Viral Hepatitis, and other STDs; and support to the agencies in their development of responses to emerging health needs related to HIV, Viral Hepatitis and other STDs.

The CHACHSPT consists of 18 experts knowledgeable in the fields of public health, epidemiology, laboratory practices, immunology, infectious diseases, drug abuse, behavioral science, health education, healthcare delivery, state health programs, clinical care, preventive health, medical education, health services and clinical research, and healthcare financing, who are selected by the Secretary of the U.S. Department of Health and Human Services (HHS).

Nominations are being sought for individuals who have expertise and qualifications necessary to contribute to the accomplishments of the Committee's objectives.

Nominees will be selected from experts having experience in HIV/AIDS, Viral Hepatitis and STD prevention, control and treatment. Experts in the disciplines of epidemiology, laboratory practice, immunology, infectious diseases, drug abuse, behavioral science, health education, healthcare delivery, state health programs, clinical care, preventive health, medical education, health services and clinical research, healthcare financing and other related disciplines will be considered. The committee shall have at least four members who shall be persons living with HIV/AIDS.

Members may be invited to serve for terms of up to four years. The HHS policy stipulates that committee membership be balanced in terms of professional training and background, points of view represented and the committee's function. Consideration is given to a broad representation of geographic areas within the U.S., with equitable representation of the sexes, ethnic and racial minorities, and persons with disabilities. Nominees must be U.S. citizens, and cannot be full-time employees of the U.S. Government.

Candidates should submit the following items:

• Current curriculum vitae, including complete contact information (telephone numbers, mailing address, email address)

• A letter of recommendation from person(s) not employed by the U.S. Department of Health and Human Services

• A statement indicating the nominee's willingness to serve as a potential member of the Committee.

Nominations should be submitted electronically to zkr7@cdc.gov or in writing, to: Margie Scott-Cseh, Committee Management Specialist, NCHHSTP, CDC, 1600 Clifton Road NE., Mailstop: E07, Atlanta, GA 30333. All nominations must be postmarked by April 30, 2014.

The Director, Management Analysis and Services Office, has been delegated the authority to sign Federal Register notices pertaining to announcements of meetings and other committee management activities, for both the Centers for Disease Control and Prevention, and the Agency for Toxic Substances and Disease Registry.

Gary J. Johnson
Acting Director, Management Analysis and Services Office, Centers for Disease Control and Prevention.

[FR Doc. 2014-00045 Filed 1-7-14; 8:45 am]

BILLING CODE 4163-18-P